DEPARTMENT OF LABOR

Employment and Training Administration

[TA-W-62,932]

Keeper Corporation: Hampton Products International Corporation Including On-Site Leased Workers From AAA Staffing; North Windham, CT; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and a Negative Determination Regarding Eligibility to Apply for Alternative Trade Adjustment Assistance on March 13, 2008, applicable to workers of Keeper Corporation, including on-site leased workers from AAA Staffing, North Windham, Connecticut. The notice was published in the Federal Register on March 26, 2008 (73 FR 16064). The notice was amended on December 5, 2008 and February 25, 2009 to include employees in support of the subject firm working in Lawrenceville, Georgia, Smyrna, Tennessee, West Grove, Pennsylvania and Bountiful, Utah. The notices were published in the Federal Register on December 15, 2008 (73 FR 76058-76059 and March 4, 2009 (74 FR 9432) respectively.

At the request of the State agency, the Department reviewed the certification for workers of the subject firm. The workers were engaged in employment related to the production of cargo control products such as tie downs, towing straps and bungee cords.

New information shows that Hampton Products International Corporation is the parent firm of Keeper Corporation. Workers wages at the subject firm are being reported under the Unemployment Insurance (UI) tax account for Hampton Products International Corporation.

Accordingly, the Department is amending this certification to show workers wages are reported to the Unemployment Insurance (UI) tax account for Hampton Products International Corporation.

The intent of the Department's certification is to include all workers of Keeper Corporation, North Windham, Connecticut who was adversely affected by a shift in production of cargo control products such as tie downs, towing straps and bungee cords to China.

The amended notice applicable to TA-W-63,927 is hereby issued as follows:

All workers of Keeper Corporation, Hampton Products International Corporation, including on-site leased workers of AAA Staffing, North Windham, Connecticut (TA-W-62,932), all workers of Keeper Corporation, Hampton Products International Corporation, Manchester (TA-W-62,932A), including employees in support of Keeper Corporation, Hampton Products International Corporation, North Windham, Connecticut working out of Lawrenceville, Georgia (TA-W-62,932B, Smyrna, Tennessee (TA-W-62,932C), West Grove, Pennsylvania (TA-W-62,932D) and Bountiful, Utah (TA-W-62,932E), who became totally or partially separated from employment on or after February 28, 2007 through March 13, 2010, are eligible to apply for adjustment assistance under Section 223 of the Trade Act of 1974 and are also eligible to apply for alternative trade adjustment assistance under Section 246 of the Trade Act of 1974.

Signed at Washington, DC, this 8th day of December 2009.
Elliott S. Kushner,
Certifying Officer, Division of Trade Adjustment Assistance.

[FR Doc. E9-30248 Filed 12-18-09; 8:45 am]

BILLING CODE 4510-FN-P